FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Hazard Mapping Division, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Administrator has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4.

National Environmental Policy Act

This rule is categorically excluded from the requirements of 44 CFR Part 10, Environmental Consideration. No environmental impact assessment has been prepared.

Regulatory Flexibility Act

The Acting Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Morgan (FEMA Docket No. D-7507) | City of Decatur | December 5, 2000, December 12, 2000, The Decatur Daily | The Honorable Julian Price, Mayor of the City of Decatur, P.O. Box 488, Decatur, Alabama 35602 | Nov. 27, 2000 | 010176 D
Florida:
Polk (FEMA Docket No. D-7507) | Unincorporated Areas | December 15, 2000, December 22, 2000, The Ledger | Mr. Jim W. Keene, Polk County Manager, 330 West Church Street, P.O. Box 9005, Drawer BC01, Bartow, Florida 33831-9005 | Dec. 21, 2000 | 120261 F
Brevard (FEMA Docket No. D-7505) | City of Rockledge | November 10, 2000, November 17, 2000, Florida Today | The Honorable Larry L. Schultz, Mayor of the City of Rockledge, P.O. Box 560488, Rockledge, Florida 32956-0488 | Feb. 16, 2001 | 120027 E
Seminole (FEMA Docket No. D-7507) | Unincorporated Areas | November 1, 2000, November 8, 2000, Seminole Herald | Mr. Kevin Grace, Seminole County Manager, 1101 East First Street, Sanford, Florida 32771 | Feb. 7, 2001 | 120289 E
Seminole (FEMA Docket No. D-7507) | City of Winter Springs | November 1, 2000, November 8, 2000, Seminole Herald | Mr. Ronald McLemore, City of Winter Springs Manager, 1126 East State Road, Suite 434, Winter Springs, Florida 32708 | Feb. 7, 2001 | 120295E
Georgia:
Catoosa (FEMA Docket No. D-7507) | Unincorporated Areas | January 17, 2001, January 24, 2001, The Catoosa County News | Mr. L.C. Cripps, Chairman of the Catoosa County Board of Commissioners, Catoosa County Courthouse, 7694 Nashville Street, Ringgold, Georgia 30736 | Jan. 5, 2001 | 130028 D
Chatham (FEMA Docket No. D-7507) | Unincorporated Areas | November 10, 2000, November 17, 2000, Savannah Morning News | Dr. Billy Hair, Chairman of the Chatham County Board of Commissioners, P.O. Box 8161, Savannah, Georgia 31412 | Feb. 16, 2001 | 130030 C
Catoosa (FEMA Docket No. D-7507) | City of Fort Oglethorpe | January 17, 2001, January 24, 2001, The Catoosa County News | The Honorable Judson L. Burkhart, Mayor of the City of Fort Oglethorpe, 500 Greenleaf Circle, Fort Oglethorpe, Georgia 30792 | Jan. 5, 2001 | 130248 D
Chatham (FEMA Docket No. D-7507) | City of Pooler | November 10, 2000, November 17, 2000, Savannah Morning News | The Honorable Earl Carter, Mayor of the City of Pooler, 100 Southwest Highway 80, Pooler, Georgia 31322 | Feb. 16, 2001 | 130261 C
Kentucky:
Jefferson (FEMA Docket No. D-7507) | Unincorporated Areas | December 19, 2000, December 26, 2000, The Courier-Journal | The Honorable Rebecca Jackson, Jefferson County Judge Executive, Jefferson County Courthouse, 527 West Jefferson Street, Suite 400, Louisville, Kentucky 40202 | Mar. 26, 2001 | 210120
Pike (FEMA Docket No. D-7505) | City of Pikeville | November 15, 2000, November 22, 2000, The Appalachian News-Express | The Honorable Frank Morris, Mayor of the City of Pikeville, 118 College Street, Pikeville, Kentucky 41501 | Feb. 21, 2001 | 210193 F
Pike (FEMA Docket No. D-7507) | City of Pikeville | December 27, 2000, January 3, 2001, The Appalachian News-Express | The Honorable Frank Morris, Mayor of the City of Pikeville, 118 College Street, Pikeville, Kentucky 41501 | Dec. 15, 2000 | 210193 F
Maryland: Harford (FEMA Docket No. D-7501) | Unincorporated Areas | May 12, 2000, May 19, 2000, The Aegis | Mr. James M. Harkins, Harford County Executive, 220 South Main Street, Bel Air, Maryland 21014 | May 3, 2000 | 240040 D
Mississippi:
Hinds (FEMA Docket No. D-7507) | City of Clinton | November 29, 2000, December 6, 2000, The Clarion Ledger | The Honorable Rosemary Aultman, Mayor of the City of Clinton, P.O. Box 156, Clinton, Mississippi 39060 | Mar. 6, 2001 | 280071 C
Harrison (FEMA Docket No. D-7507) | City of Gulfport | December 29, 2000, January 5, 2001, The Sun Herald | The Honorable Bob Short, Mayor of the City of Gulfport, P.O. Box 1780, Gulfport, Mississippi 39502 | Feb. 13, 2001 | 285253
New Jersey: Cape May (FEMA Docket No. D-7507) | City of North Wildwood | January 10, 2001, January 17, 2001, The Leader | The Honorable Aldo A. Palombo, Mayor of the City of North Wildwood, Municipal Building, 901 Atlantic Avenue, North Wildwood, New Jersey 08260 | Dec. 27, 2000 | 345308 E
North Carolina:
Orange (FEMA Docket No. D-7507) | Town of Carrboro | December 29, 2000, January 5, 2001, The Chapel Hill Herald | Mr. Robert W. Morgan, Town of Carrboro Manager, P.O. Box 829, Carrboro, North Carolina 27510 | Dec. 20, 2000 | 370275 B
Orange, Durham, and Chatham (FEMA Docket No. D-7507) | Town of Chapel Hill | December 12, 2000, December 19, 2000, The Herald-Sun | The Honorable Rosemary Waldorf, Mayor of the Town of Chapel Hill, 306 North Columbia Street, Chapel Hill, North Carolina 27516 | Mar. 19, 2001 | 370180 E
Guilford (FEMA Docket No. D-7505) | City of Greensboro | November 16, 2000, November 23, 2000, News & Record | The Honorable Keith Holliday, Mayor of the City of Greensboro, P.O. Box 3136, Greensboro, North Carolina 27402-3136 | Feb. 22, 2001 | 375351 C
Pennsylvania:
Berks (FEMA Docket No. 7309 | Township of Cumru | January 6, 2000, January 13, 2000, Reading Eagle/Times | Mr. William Shea, Township of Cumru Manager, 1775 Welsh Road, Mohnton, Pennsylvania 19540 | Apr. 11, 2000 | 420130 D
Lancaster (FEMA Docket No. D-7509) | Township of East Cocalico | February 19, 2001, Intelligence Journal | Mr. Douglas Mackley, Chairman of the Board of Supervisors, East Cocalico Township Office, 100 Hill Road, Denver, Pennsylvania 17517 | Mar. 15, 2001 | 420547 C
Butler (FEMA Docket No. d-7501) | Borough of Harmony | June 8, 2000, June 15, 2000, Butler Eagle | Mr. Jeffrey Smith, President, Borough of Harmony Council, P.O. Box 945, Harmony, Pennsylvania 16037 | Sep. 13, 2000 | 420217
York (FEMA Docket No. 7313 | Township of Heidelberg | November 19, 1999, November 26, 1999, The Evening Sun | Mr. Harry Rodgers, Chairman, Township of Heidelberg, Route Number 3, Box 3447 A, Spring Grove, Pennsylvania 17362 | Nov. 10, 1999 | 422221C
Butler (FEMA Docket No. D-7501) | Township of Jackson | June 8, 2000, June 15, 2000, Butler Eagle | Mr. James A. MacDonald, Chairman, Township of Jackson, Board of Supervisors, 140 Magill Road, Zelieople, Pennsylvania 16063 | Sep. 13, 2000 | 421420
Berks (FEMA Docket No. 7309) | Borough of Kenhorst | January 6, 2000, January 13, 2000, Reading Eagle/Times | The Honorable Gerald P. Nally, Mayor of the Borough of Kenhorst, 339 South Kenhorst Boulevard, Kenhorst, Pennsylvania 19607 | Apr. 11, 2000 | 420135 D
Lancaster (FEMA Docket No. D-7503 | City of Lancaster | July 25, 2000, August 1, 2000, Intelligencer Journal | The Honorable Charles W. Smithgall, Mayor of the City of Lancaster, P.O. Box 1599, 120 North Duke Street, Lancaster, Pennsylvania 17603-1599 | Jul. 5, 2000 | 420552
Berks (FEMA Docket No. D-7501) | Township of Lower Heidelberg | April 24, 2000, May 1, 2000, Reading Eagle/Reading Times | Mr. Russell Swinehart, Chairman of the Lower Heidelberg, Board of Supervisors, 24 Lisa Road, Sinking Spring, Pennsylvania 19608 | Apr. 4, 2000 | 421077 E
Dauphin (FEMA Docket No. D-7507) | Township of Lower Paxton | December 6, 2000, December 13, 2000, Patriot News | Mr. George S. Wolfe, Lower Paxton Township Manager, 75 South Houcks Road, Suite 207, Harrisburg, Pennsylvania 17109 | Nov. 28, 2000 | 420384 B
Lancaster (FEMA Docket No. D-7503) | Township of Manheim | July 25, 2000, August 1, 2000, Intelligencer Journal | Mr. Thomas Woodland, President, Manheim Township Board of Commissioners, 1840 Municipal Drive, Lancaster, Pennsylvania 17601-4162 | Jul. 5, 2000 | 420556 C
Bucks (FEMA Docket No D-7501) | Township of Middletown | April 26, 2000, May 3, 2000, News-Herald | Mr. John J. Burke, Middletown Township Manager, 2140 Trenton Road, Levittown, Pennsylvania 19056 | Mar. 8, 2000 | 420193
Huntingdon (FEMA Docket No. D-7501) | Borough of Mount Union | April 21, 2000, April 28, 2000, The Daily News | The Honorable Michael C. Goodman, Mayor of the Borough of Mount Union, P.O. Box 90, Mount Union, Pennsylvania 17066 | Mar. 22, 2000 | 420489 B
York (FEMA Docket No. 7313) | Township of Penn | November 19, 1999, November 26, 1999, The Evening Sun | Mr. Frederick W. Stine, President of the Penn Township Board of Commissioners, 20 Wayne Avenue, Hanover, Pennsylvania 17331 | Nov. 10, 1999 | 421025 C
Montgomery (FEMA Docket No. D-7503) | Township of Plymouth | July 18, 2000, July 25, 2000, Times Herald | Ms. Joan Mower, Township of Plymouth Manager, 700 Belvoir Road, Plymouth Meeting, Pennsylvania 19462 | Jul. 7, 2000 | 420955 E
Lebanon (FEMA Docket No. D-7501) | Township of South Lebanon | October 8, 1999, October 15, 1999, The Daily News | Mr. Curtis Kulp, Township of South Lebanon Manager, 1800 South Fifth Avenue, Lebanon, Pennsylvania 17042 | Jan. 13, 2000 | 420581
Chester (FEMA Docket No. 7309) | Township of Valley | February 8, 2000, February 15, 2000, The Daily Local News | Mr. Grover E. Koon, Chairperson, Township of Valley Board of Supervisors, P.O. Box 467, Coatesville, Pennsylvania 19320 | Feb. 1, 2000 | 421206 D
Mifflin (FEMA Docket No. D-7501) | Township of Wayne | April 21, 2000, April 28, 2000, The Daily News | Mr. Theodore M. Reed, Chairman of the Wayne Township Board of Supervisors, 3055 Ferguson Valley, McVeytown, Pennsylvania 17051 | Mar. 22, 2000 | 421240 A
South Carolina: Lexington (FEMA Docket No. D-7507) | Unincorporated Areas | December 22, 2000, December 29, 2000, The State | Mr. Johnny Jeffcoat, Lexington County Chairman, 212 South Lake Drive, Lexington, South Carolina 29072 | Dec. 15, 2000 | 450129G
Tennessee:
Shelby (FEMA Docket No. D-7507) | Town of Collierville | December 13, 2000, December 20, 2000, The Commercial Appeal | The Honorable Linda Kerley, Mayor of the Town of Collierville, 101 Walnut Street, Collierville, Tennessee 38017-2671 | Mar. 20, 2001 | 470263 E
Unicoi (FEMA Docket No. D-7507) | City of Erwin | January 24, 2001, January 31, 2001, The Erwin Record | The Honorable Russell Brackins, Mayor of the City of Erwin, Town Hall, P.O. Box 59, Erwin, Tennessee 37650 | May 2, 2001 | 470094 B
Metropolitan Government (FEMA Docket No. D-7507) | City of Nashville and Davidson County | December 12, 2000, December 19, 2000, The Tennessean | The Honorable William Purcell, Mayor of the Metropolitan Government of Nashville and Davidson County, 107 Metropolitan Courthouse, Nashville, Tennessee 37201 | Dec. 4, 2000 | 470040 C
Shelby (FEMA Docket No. D-7507) | Unincorporated Areas | December 13, 2000, December 20, 2000, The Commercial Appeal | The Honorable Jim Rout, Mayor of Shelby County, 160 North Main Street, Suite 850, Memphis, Tennessee 38103 | Mar. 20, 2001 | 470214 E
Virginia:
Arlington (FEMA Docket No. D-7507) | Unincorporated Areas | November 10, 2000, November 17, 2000 The Journal Newspaper | Mr. William Donahue, Arlington County Manager, 2100 Clarendon Boulevard, Room 302, Arlington, Virginia 22201 | May 3, 1982 | 515520
Brunswick (FEMA Docket No. D-7503) | Unincorporated Areas | September 13, 2000, September 20, 2000 Lake Gaston Gazette | Mr. J. Grady Martin, Chairman of the Brunswick County Board of Supervisors, County Courthouse, P.O. Box 399, Lawrenceville, Virginia 23868 | Sept. 6, 2000 | 510236 B
Independent City (FEMA Docket No. D-7507) | City of Falls Church | November 10, 2000, November 17, 2000, The Journal Newspaper | The Honorable Daniel Gardner, Mayor of the City of Falls Church, 300 Park Avenue, Falls Church, Virginia 22046 | Feb. 3, 1982 | 510054
Warren (FEMA Docket No. 7309) | Town of Front Royal | February 1, 2000, February 8, 2000, Northern Virginia Daily | Mr. Richard Anzolut, Jr., Town of Front Royal Manager, P.O. Box 1650, Front Royal, Virginia 22630 | Jan. 27, 2000 | 510167 B
Loudoun (FEMA Docket No. 7313) | Town of Leesburg | December 1, 1999, December 8, 1999, Loudoun Times-Mirror | The Honorable James E. Clem, Mayor of the Town of Leesburg, P.O. Box 88, Leesburg, Virginia 20178 | Nov. 19, 1999 | 510091 C
Henrico (FEMA Docket No. D-7507) | Unincorporated Areas | December 1, 2000, December 8, 2000, The Richmond Times | Mr. Frank Thornton, Chairman of the Henrico County Board of Supervisors, P.O. Box 27032, Richmond, Virginia 23273 | Feb. 20, 2001 | 510077 B
Independent City (FEMA Docket No. D-7505) | City of Winchester | July 5, 2000, July 12, 2000, Winchester Star | Mr. Edwin C. Daley, City of Winchester Manager, Rouss City Hall, 15 North Cameron Street, Winchester, Virginia 22601 | June 23, 2000 | 510173 B
Independent City (FEMA Docket No. D-7505) | City of Winchester | August 30, 2000, September 5, 2000, Winchester Star | Mr. Edwin C. Daley, City of Winchester Manager, Rouss City Hall, 15 North Cameron Street, Winchester, Virginia 22601 | Nov. 20, 2000 | 510173 B

(Catalog of Federal Domestic Assistance No. 83.100, “Flood Insurance”)
Dated: July 18, 2001.
Robert F. Shea,
Acting Administrator, Federal Insurance and Mitigation Administration.

[FR Doc. 01-18738 Filed 7-26-01; 8:45 am]

BILLING CODE 6718-04-P